FEDERAL COMMUNICATIONS COMMISSION

[Report No. 2443]

Petition for Reconsideration of Action in Rulemaking Proceeding

October 5, 2000.

Petition for Reconsideration has been filed in the Commission's rulemaking proceeding listed in this Public Notice and published pursuant to 47 CFR 1.429(e). The full text of this document is available for viewing and copying in Room CY-257, 445 12th Street, SW., Washington, DC or may be purchased from the Commission's copy contractor, ITS, Inc. (202) 857-3800. Oppositions to this petition must be filed by October 27, 2000. See section 1.4(b)(1) of the Commission's rules (47 CFR 1.4(b)(1)). Replies to an opposition must be filed within 10 days after the time for filing oppositions has expired.

Subject

Toll Free Service Access Codes (CC Docket No. 95-155)

Database Services Management, Inc. Petition for Declaratory Ruling

Beehive Telephone Company Petition for Declaratory Ruling

Number of Petitions Filed: 3.

Federal Communications Commission.
Magalie Roman Salas,
Secretary.

[FR Doc. 00-26190 Filed 10-11-00; 8:45 am]

BILLING CODE 6712-01-M